NATIONAL AERONAUTICS AND SPACE ADMINISTRATION

[Notice 03-138]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: November 4, 2003.

FOR FURTHER INFORMATION CONTACT: Kent N. Stone, Patent Counsel, Glenn Research Center at Lewis Field, Code 500-118, Cleveland, OH 44135; telephone (216) 433-8855; fax (216) 433-6790.

NASA Case No. LEW-17093-2: NiAi-Based Approach for Rocket Combustion Chambers;

NASA Case No. LEW-17133-3: Polyimides By Photochemical Cyclopolymerization;

NASA Case No. LEW-17170-2: Multi-Functional Micro Electromechanical Silicon Carbide Accelerometer;

NASA Case No. LEW-17182-1: Acoustic Seal

NASA Case No. LEW-17222-2: Method of Assembling a Silicon Carbide High Temperature Anemometer;

NASA Case No. LEW-17353-1: Series Connected Buck Converter;

NASA Case No. LEW-17427-1: Apparatus and Process for Producing Atomic Oxygen on the Inside of Tubing;

NASA Case No. LEW-17484-1: A Compact Microscope Imaging System With Intelligent Controls.

Dated: October 29, 2003.
Robert M. Stephens,
Deputy General Counsel.

[FR Doc. 03-27681 Filed 11-3-03; 8:45 am]

BILLING CODE 7510-01-P